SECURITIES AND EXCHANGE COMMISSION

[Release Nos. 33-8927, 34-57929; File No. 4-559]

International Roundtable on Interactive Data for Public Financial Reporting

AGENCY: Securities and Exchange Commission.

ACTION: Notice of roundtable meeting; request for comment.

SUMMARY: On Tuesday, June 10, 2008, the Securities and Exchange Commission will hold a roundtable discussion on the experience in countries that have already adopted interactive data; the views of countries currently considering adopting interactive data; and the perspectives from analysts and users of financial information about how best to take advantage of the capabilities of interactive data. The event begins with remarks by SEC Chairman Christopher Cox on the use of interactive data by public companies and mutual funds to improve disclosure for individual investors. Following Chairman Cox's remarks, a panel discussion will consider the use of interactive data for public financial reporting. Panelists will include representatives from foreign securities regulators that already require interactive-data reporting as well as representatives from foreign securities regulators that are considering adopting a form of interactive-data disclosure. In addition, the panel will feature users of such disclosure and solicit their views on the use of interactive data for public financial reporting. The panel will be moderated by Chicago Sun-Times personal finance columnist Terry Savage.

The roundtable will take place at the Commission's headquarters at 100 F Street, NE., Auditorium, Room L-002, Washington, DC, from 9:30 a.m. to 12 p.m. The public is invited to observe the roundtable discussions. Seating is available on a first-come, first-serve basis. The roundtable discussions also will be available via webcast on the Commission's Web site at http://www.sec.gov. The Roundtable Agenda and other materials related to the Roundtable, including written statements submitted by participants for public distribution, will be accessible at http://www.sec.gov/spotlight/xbrl/xbrl-meetings.shtml.

DATES: Comments should be received on or before August 1, 2008.

ADDRESSES: Comments may be submitted by any of the following methods:

Electronic Comments

• Use the Commission's Internet comment form (http://www.sec.gov/rules/proposed.shtml); or

• Send an e-mail to rule-comments@sec.gov. Please include File Number

• S7-11-08 on the subject line.

Paper Comments

• Send paper comments in triplicate to Secretary, Securities and Exchange Commission, 100 F Street, NE., Washington, DC 20549-1090.

All submissions should refer to File Number S7-11-08. This file number should be included on the subject line if e-mail is used. To help us process and review your comments more efficiently, please use only one method. The Commission will post all comments on the Commission's Internet Web site (http://www.sec.gov/rules/proposed.shtml). Comments are also available for public inspection and copying in the Commission's Public Reference Room, 100 F Street, NE., Washington, DC 20549, on official business days between the hours of 10 a.m. and 3 p.m. All comments received will be posted without change; we do not edit personal identifying information from submissions. You should submit only information that you wish to make available publicly.

FOR FURTHER INFORMATION CONTACT: J. Troy Beatty, Senior Counsel, Office of International Affairs at (202) 551-6681.

SUPPLEMENTARY INFORMATION: The Roundtable follows the issuance on May 30, 2008 of a proposed rule on Interactive Data to Improve Financial Reporting. The proposed rule may be accessed on the Commission's Web site (http://www.sec.gov/rules/proposed/2008/33-8924.pdf). The Commission welcomes feedback regarding the proposed rule and any of the topics to be addressed at the Roundtable, including those raised in the questions below.

Questions for Panelists

• How did your interactive data program originate? Was it driven by investors, the regulator, or some other organization? What is the current status of your interactive data program?

• What is the scope of interactive filings required in your jurisdiction? If none, what filings are currently being considered that might be subject to an interactive data reporting requirement?

• What levels of detail of interactive data are you considering or have been the most effective in implementing? What issues arose in assessing the level of detail to be tagged in required filings? In what manner were these issues resolved? Were the primary considerations in addressing these issues based on technological or regulatory developments?

• How did issuers in your jurisdiction respond, or how do you anticipate they will respond, to the requirement to provide reports using interactive data for financial reporting? Does your response differ depending on the size of the issuer or the level of detail required to be submitted?

• Did the use of interactive data in your jurisdiction impact what or how issuers report financial information? Does interactive data filing pose a burden to filers?

• What factors have most impacted the timing and ability of issuers to move to the use of interactive data for financial reporting in your jurisdiction?

• Do you find, or do you anticipate, that issuer filings in interactive data in your jurisdiction benefit, or will benefit, the investor and the larger investment community? What have been your experiences to date in realizing these benefits? In what ways are investors assessing and using interactive data? Are any alternatives for easier access for investors being considered to increase usage of the data?

• What regulatory filings would benefit investors by being subject to an interactive data filing requirement? Are there portions of existing filings that would benefit investors by being subject to an interactive data filing requirement?

• In your experience, what “works” in terms of designing and implementing interactive data regulatory requirements?

• Should interactive data filing tags be interoperable across national markets? If so, what efforts could be made to make data filing tags interoperable? Should regulatory authorities collaborate on or encourage this?

By the Commission.
June 5, 2008.
Florence E. Harmon,
Acting Secretary.

[FR Doc. E8-13053 Filed 6-10-08; 8:45 am]

BILLING CODE 8010-01-P